NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed reinstatement submission to the Office of Management and Budget (OMB) for clearance simultaneously with the publication of this second notice. The full submission may be found at: http://www.reginfo.gov/public/do/PRAMain.

DATES: Comments regarding these information collections are best assured of having their full effect if received within 30 days of this notification.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: Survey of Earned Doctorates.

OMB Number: 3145-0019.

Type of Request: Intent to seek approval to extend, with revisions, an information collection.

Abstract:

Summary of Collection: The authority to collect information for the Survey of Earned Doctorates (SED) is established under the National Science Foundation Act of 1950, as amended, Public Law 507 (42 U.S.C. 1862), Section 3(a)(6), which directs the NSF “. . . to provide a central clearinghouse for the collection, interpretation, and analysis of data on scientific and engineering resources and to provide a source of information for policy formation by other agencies of the federal government.” The NCSES was established within NSF by Section 505 of the America COMPETES Reauthorization Act of 2010 and given a broader mandate to collect data related to STEM education, the science and engineering workforce, and U.S. competitiveness in science, engineering, technology, and Research and Development. The SED is part of an integrated survey system that fulfills the education and workforce components of this mission.

The SED has been conducted annually since 1958 and is jointly sponsored by four Federal agencies (NSF/NCSES, National Institutes of Health, U.S. Department of Education/National Center for Education Statistics, and National Endowment for the Humanities) to avoid duplication of effort in collecting such data. It is an accurate, timely source of information on an important national resource—individuals with research doctorates. Data are obtained via Web survey or paper questionnaire from each person earning a research doctorate at the time they receive the degree. Graduate schools help distribute the SED to their graduating doctorate recipients. Data are collected on the doctorate recipient's field of specialty, educational background, sources of financial support in graduate school, debt level, postgraduation plans for employment, and demographic characteristics.

The survey will be collected in conformance with the NSF Act of 1950, as amended, and the Privacy Act of 1974. Responses from individuals are voluntary. NCSES will ensure that all individually identifiable information collected will be kept strictly confidential and will be used for research or statistical purposes, analyzing data, and preparing scientific reports and articles.

Use of the Information: The Federal government, universities, researchers, and others use the information extensively. NCSES, as the lead agency, publishes statistics from the survey in several reports, but primarily in the annual publication series, “Doctorate Recipients from U.S. Universities.” These reports are available on the Web. NCSES also uses this information to prepare congressionally mandated reports such as Science and Engineering Indicators and Women, Minorities and Persons with Disabilities in Science and Engineering.

Expected Respondents: The SED is a census of all individuals receiving a research doctorate in the U.S. in an academic year (AY). An estimated annual average of 56,764 individuals are expected to receive a research doctorate in AY 2020 (1 July 2019-30 June 2020) and AY 2021 (1 July 2020-30 June 2021). Using the target response rate of 91% for the research doctorate recipients, the number of annual respondents is estimated to be 51,655. Additionally, SED requires collection of administrative data from an annual average of 619 Institutional Coordinators among approximately 450 doctorate-granting institutions.

Estimate of Burden: Based on the average Web survey completion time of 20 minutes, the annual respondent burden for completing the SED is estimated at 17,218 hours. Based on focus groups conducted with Institutional Coordinators, which estimated approximately 20 hours for responding to SED requested administrative data over the course of a year. Therefore, the estimated annual burden to Institutional Coordinators is 12,380 hours. Therefore, the total annual estimated burden for the SED is 29,598 hours.

Comment: On 29 October 2018 we published in the Federal Register (83 FR 209) a 60-day notice of our intent to request reinstatement of this information collection authority from OMB. In that notice, we solicited public comments for 60 days ending 28 December 2018. No comments were received from the public.

Dated: March 18, 2019.
Suzanne H. Plimpton,
Reports Clearance Officer, National Science Foundation.

[FR Doc. 2019-05457 Filed 3-21-19; 8:45 am]

BILLING CODE 7555-01-P